DEPARTMENT OF STATE

[Public Notice 3949]

Determination: Assistance for the Implementation Monitoring Committee To Implement the Burundi Peace Process

Pursuant to section 451 of the Foreign Assistance Act of 1961, as amended, (the “Act”) (22 U.S.C. 2261) and section 1-100 of Executive Order 12163, as amended, I hereby authorize, notwithstanding any other provision of law, the use of up to $1,000,000 in FY 2001 funds made available under Chapter 4 of Part II of the Act, in order to provide assistance authorized by Part I of the Act to support the Implementation Monitoring Committee provided for in the August 2000 Arusha Peace and Reconciliation Agreement for Burundi to help implement the Burundi peace agreement.

This Determination shall be reported to Congress promptly and published in the Federal Register.

Dated: March 11, 2002.
Colin L. Powell,
Secretary of State, Department of State.

[FR Doc. 02-6720 Filed 3-19-02; 8:45 am]

BILLING CODE 4710-10-P